DEPARTMENT OF LABOR

Office of the Secretary

Job Corps: Final Finding of No Significant Impact (FONSI) for Small Wind Turbine Installation at the Hawaii-Maui Job Corps Center Located at 500 Ike Drive, Makawao, Island of Maui, HI

AGENCY: Office of the Secretary (OSEC), Department of Labor.

Recovery: This project will be wholly funded under the American Recovery and Reconstruction Act of 2009.

ACTION: Final Finding of No Significant Impact (FONSI) for Small Wind Turbine Installation at the Hawaii-Maui Job Corps Center located at 500 Ike Drive, Makawao, Island of Maui, Hawaii 96768.

SUMMARY: Pursuant to the Council on Environmental Quality Regulations (40 CFR part 1500-08) implementing procedural provisions of the National Environmental Policy Act (NEPA), the Department of Labor, Office of the Secretary (OSEC), in accordance with 29 CFR 11.11(d), gives final notice of the proposed construction of a small wind turbine at the Hawaii-Maui Job Corps Center, and that this project will not have a significant adverse impact on the environment. In accordance with 29 CFR 11.11(d) and 40 CFR 1501.4(e)(2), a preliminary FONSI for the project was published in the September 1, 2009 Federal Register (74 FR Page 45253). No comments were received regarding the preliminary FONSI. OSEC has reviewed the conclusion of the environmental assessment (EA), and agrees with the finding of no significant impact. This notice serves as the Final Finding of No Significant Impact (FONSI) for Small Wind Turbine Installation at the Hawaii-Maui Job Corps Center located at 500 Ike Drive, Makawao, Island of Maui, Hawaii 96768. The preliminary FONSI and the EA are adopted in final with no change.

DATES: Effective Date: These findings are effective as of October 16, 2009.

FOR FURTHER INFORMATION CONTACT: William A. Dakshaw, Department of Labor, U.S. Department of Labor, 200 Constitution Avenue, NW., Room N-4460, Washington, DC 20210, (202) 693-2867 (this is not a toll-free number).

Lynn Intrepidi,
Interim National Director of Job Corps.

[FR Doc. E9-26498 Filed 11-3-09; 8:45 am]

BILLING CODE 4510-23-P